NUCLEAR REGULATORY COMMISSION

[NRC-2012-0061]

Biweekly Notice: Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from February 23 to March 7, 2012. The last biweekly notice was published on March 6, 2012 (77 FR 13369).

ADDRESSES: You may access information and comment submissions related to this document, which the NRC possesses and is publicly available, by searching on http://www.regulations.gov under Docket ID NRC-2012-0061.

You may submit comments by the following methods:

• Federal Rulemaking Web site: Go to http://www.regulations.gov and search for Docket ID NRC-2012-0061. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0061 when contacting the NRC about the availability of information regarding this document. You may access information related to this document, which the NRC possesses and is publicly available, by the following methods:

• Federal Rulemaking Web Site: Go to http://www.regulations.gov and search for Docket ID NRC-2012-0061.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0061 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852. The NRC's regulations are accessible online at the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by email to pdr.resource@nrc.gov.

Duke Energy Carolinas, LLC, et al., Docket Nos. 50-413 and 50-414, Catawba Nuclear Station, Units 1 and 2, York County, South Carolina

Date of amendment request: July 21, 2011.

Description of amendment request: The amendments would revise Technical Specifications (TSs) 3.3.2, “Engineered Safety Feature Actuation System (ESFAS) Instrumentation,” 3.5.4, “Refueling Water Storage Tank (RWST),” and 3.6.6, “Containment Spray System.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes delete superseded TS requirements following the implementation of NRC approved modifications. As such, they do not adversely affect accident initiators or precursors nor do they alter the design assumptions, conditions, or configurations of the facility. The proposed changes do not alter or prevent the ability of Structures, Systems, and Components (SSCs) to perform their intended function to mitigate the consequences of an initiating event within the assumed acceptance limits. In review of the discussion above, it can be concluded that the probability or consequences of any accident previously evaluated will not be affected.

2. Does the proposed amendment create the possibility of a new or different kind of accident from any accident previously evaluated?

Response: No.

This amendment request will not impact the accident analyses. The proposed changes delete superseded TS requirements following the implementation of NRC approved modifications. As such, they will not alter the requirements of any of the subject SSCs or their function during accident conditions. No new or different accidents will result from the proposed changes. The changes do not involve a physical alteration of the plant (i.e., no new or different type of equipment will be installed) or any changes in methods governing normal plant operation. The changes do not alter assumptions made in the safety analyses. The proposed changes are consistent with the safety analyses assumptions. In review of the discussion above, it can be concluded that these changes will not create the possibility of a new or different kind of accident from any accident previously evaluated.

3. Does the proposed amendment involve a significant reduction in a margin of safety?

Response: No.

The proposed changes delete superseded TS requirements following the implementation of NRC approved modifications. As such, they do not alter the manner in which safety limits, limiting safety system settings, or limiting conditions for operation are determined. The safety analyses acceptance criteria are not affected by these changes. The proposed changes will not result in plant operation in a configuration outside the design basis. The proposed changes do not adversely affect systems that respond to safely shut down the plant and to maintain the plant in a safe shutdown condition. In review of the discussion above, it can be concluded that the proposed changes will not involve a significant reduction in a margin of safety.

The NRC staff has reviewed the licensee's analysis and, based on this review, it appears that the three standards of 10 CFR 50.92(c) are satisfied. Therefore, the NRC staff proposes to determine that the amendments requested involve no significant hazards consideration.

Attorney for licensee: Lara S. Nichols, Associate General Counsel, Duke Energy Corporation, 526 South Church Street—EC07H, Charlotte, NC 28202.

NRC Branch Chief: Nancy Salgado.

Entergy Gulf States Louisiana, LLC, and Entergy Operations, Inc., Docket No. 50-458, River Bend Station, Unit 1, West Feliciana Parish, Louisiana

Entergy Nuclear Operations, Inc., Docket Nos. 50-155 and 72-043 (ISFSI), Big Rock Point Plant, Charlevoix County, Michigan

Entergy Nuclear Operations, Inc., Docket Nos. 50-003, 50-247 and 50-286, Indian Point Nuclear Generating Units 1, 2 and 3, Westchester County, New York

Entergy Nuclear Operations, Inc., Docket No. 50-333, James A. FitzPatrick Nuclear Power Plant, Oswego County, New York

Entergy Nuclear Operations, Inc., Docket No. 50-255, Palisades Nuclear Plant, Van Buren County, Michigan

Entergy Nuclear Operations, Inc., Docket No. 50-293, Pilgrim Nuclear Power Station, Plymouth County, Massachusetts

Entergy Nuclear Vermont Yankee, LLC and Entergy Nuclear Operations, Inc., Docket No. 50-271, Vermont Yankee Nuclear Power Station, Vernon, Vermont

Entergy Operations, Inc., Docket Nos. 50-313 and 50-368, Arkansas Nuclear One, Units 1 and 2, Pope County, Arkansas

Entergy Operations, Inc., System Energy Resources, Inc., South Mississippi Electric Power Association, and Entergy Mississippi, Inc., Docket No. 50-416, Grand Gulf Nuclear Station, Unit 1, Claiborne County, Mississippi

Entergy Operations, Inc., Docket No. 50-382, Waterford Steam Electric Station, Unit 3, St. Charles Parish, Louisiana

Date of amendment request: December 13, 2011.

Description of amendment request: The amendments would approve changes to the Quality Assurance Program Manual (QAPM) and Technical Specifications (TSs) for the above specified plants. The proposed changes standardize unit staff qualification requirements for the Entergy fleet. Certain changes to the QAPM are a reduction in commitment and, in accordance with 10 CFR 50.54(a)(4), NRC approval is required prior to implementation. The related TS changes for unit staff qualifications are requested in accordance with 10 CFR 50.90.

Basis for proposed no significant hazards consideration determination: As required by 10 CFR 50.91(a), the licensee has provided its analysis of the issue of no significant hazards consideration, which is presented below:

(1) Does the proposed amendment involve a significant increase in the probability or consequences of an accident previously evaluated?

Response: No.

The proposed changes involve the revision or relocation of administrative requirements associated with unit staff qualifications and will not impact the design, operation, testing, performance, or reliability of any plant system or component. The TS changes will require plants currently required to be qualified per ANSI [American National Standards Institute] N18.1-1971 to be qualified to the later standard of ANSI/ANS [American Nuclear Society] 3.1-1978. The changes do not affect licensed operator qualifications or training, which will continue to comply with applicable regulations. Qualification requirements for the Shift Technical Advisor (STA) are revised to comply with a later standard that provides more prescriptive qualifications and ensures that the STA maintains an active status. The changes do not affect operating procedures or operator response to any accidents previously evaluated in the Updated Final Safety Analysis Report (UFSAR).

Therefore, the proposed change does not involve a significant increase in the probability or consequences of an accident previously evaluated.

(2) Does the proposed amendment create the possibility of a new or different kind of accident from any accident previously evaluated?

Response: No.

The proposed amendment is administrative in nature and does not introduce any credible new failure mechanisms, malfunctions, or accident initiators. The changes will not alter the plant configuration, require new plant equipment to be installed, alter accident analysis assumptions, introduce any new accident initiators, or affect the function of plant systems or the manner in which systems are operated, maintained, modified, tested, or inspected.

Therefore, the proposed change does not create the possibility of a new or different kind of accident from any accident previously evaluated.

(3) Does the proposed amendment involve a significant reduction in a margin of safety?

Response: No.

The proposed amendment involves the revision or relocation of administrative requirements associated with unit staff qualifications. The proposed change is administrative in nature and does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorneys for licensee: Joseph A. Aluise, Associate General Counsel—Nuclear, Entergy Services, Inc., 639 Loyola Avenue, New Orleans, LA 70113 (for River Bend Station, Unit 1, Arkansas Nuclear One, Units 1 and 2, Grand Gulf Nuclear Station, Unit 1, and Waterford Steam Electric Station, Unit 3); and William C. Dennis, Assistant General Counsel, Entergy Nuclear Operations, Inc., 440 Hamilton Avenue, White Plains, NY 10601 (for Big Rock Point Plant (ISFSI), James A. Fitzpatrick Nuclear Power Plant, Indian Point Nuclear Generating Units 1, 2, and 3, Palisades Nuclear Plant, Pilgrim Nuclear Power Station, and Vermont Yankee Nuclear Power Station).

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible online through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Detroit Edison Company, Docket No. 50-341, Fermi 2, Monroe County, Michigan

Date of application for amendment: August 12, 2011, supplemented by letter dated October 20, 2011.

Brief description of amendment: The amendment revised TS 3.8.3, “Diesel Fuel Oil and Starting Air,” by relocating the current stored diesel fuel oil numerical volume requirements from the Technical Specification to the TS Bases consistent with Technical Specification Task Force TSTF-501.

Date of issuance: February 24, 2012.

Effective date: As of the date of issuance and shall be implemented within 60 days.

Amendment No.: 188.

Facility Operating License No. NPF-43: Amendment revised the Technical Specifications and License.

Date of initial notice in Federal Register: October 4, 2011 (76 FR 61394).

The supplemental letter dated October 20, 2011 did not change staff's original proposed no significant hazards consideration determination as published in the initial Federal Register.

The Commission's related evaluation of the amendment is contained in a Safety Evaluation dated February 24, 2012.

No significant hazards consideration comments received: No.

Exelon Generation Company, LLC, Docket Nos. 50-373, LaSalle County Station, Unit 1, LaSalle County, Illinois

Date of application for amendment: October 12, 2011, as supplemented by letter(s) dated January 30, 2012, and February 13, 2012.

Brief description of amendment: The amendment request proposed changes to the Technical Specifications (TSs) to revise Section 2.1.1, “Reactor Core SLs” minimum critical power ratio safety limit (MCPR SL) from ≥ 1.11 to ≥ 1.13 for two-loop recirculation operation and from ≥ 1.12 to ≥ 1.15 for a single-loop recirculation operation.

Date of issuance: March 1, 2012.

Effective date: As of the date of issuance and shall be implemented after Cycle 14 is completed and prior to the operation of Cycle 15.

Amendment No.: 205.

Facility Operating License Nos. NPF-11: The amendment revised the Technical Specifications and License.

Date of initial notice in Federal Register: January 3, 2012 (77 FR 139).

The January 30, 2012, and February 13, 2012, supplements contained clarifying information, did not expand the scope of the application as originally noticed, and did not change the staff's original proposed no significant hazards consideration (NSHC) determination.

The Commission's related evaluation of the amendment and final NSHC determination is contained in a Safety Evaluation dated March 1, 2012.

No significant hazards consideration comments received: No.

Florida Power and Light Company, Docket Nos. 50-250 and 50-251, Turkey Point Plant, Units 3 and 4, Miami-Dade County, Florida

Date of application for amendment: February 21, 2011, as supplemented by letter dated July 21, 2011.

Brief description of amendment: Selected figures and values from the technical specifications (TSs) are being relocated to the Core Operating Limits Report (COLR), including TS Figure 2.1-1 cited in TS 2.1.1, selected portions of Note 1 on Overtemperature Δ T and Note 3 on Overpower Δ T cited in TS Table 2.2-1, TS Figure 3.1-1 cited in TS 3/4.1.1.1, Shutdown Margin value cited in TS 3/4.1.1.2, Moderator Temperature Coefficient values cited in TS 3/4.1.1.3, and Departure from Nucleate Boiling values cited in TS 3.2.5. The description of the COLR in TS 6.9.1.7 is also revised to reflect these changes. The affected TS figures and technical limits cited above are only being relocated to the COLR and are not being changed under this license amendment.

Date of issuance: February 23, 2012.

Effective date: As of the date of issuance and shall be implemented within 60 days of issuance.

Amendment Nos.: Unit 3—247 and Unit 4—243.

Renewed Facility Operating License Nos. DPR-31 and DPR-41: Amendments revised the Technical Specifications and Surveillance Requirements.

Date of initial notice in Federal Register: May 31, 2011 (76 FR 31374). The supplement dated July 21, 2011, provided additional information that clarified the application, did not expand the scope of the application as originally noticed, and did not change the staff's original proposed no significant hazards consideration determination as published in the Federal Register.

The Commission's related evaluation of the amendments is contained in a Safety Evaluation dated February 23, 2012.

No significant hazards consideration comments received: No.

NextEra Energy Duane Arnold, LLC, Docket No. 50-331, Duane Arnold Energy Center, Linn County, Iowa

Date of application for amendment: February 23, 2011, as supplemented by letters dated April 20, August 15, November 1, 2011, and February 3, 2012.

Brief description of amendment: The amendment revised the Technical Specifications (TSs) by relocating specific surveillance frequencies to a licensee-controlled program with the guidance of Nuclear Energy Institute (NEI) 04-10, “Risk-Informed Technical Specifications Initiative 5b, Risk-Informed Method for Control of Surveillance Frequencies.” The amendment adopted NRC-approved Technical Specification Task Force (TSTF)-425, Revision 3, “Relocate Surveillance Frequencies to Licensee Control—RITSTF [Risk-Informed TSTF] Initiative 5b.” When implemented, TSTF-425 relocates most periodic frequencies of TS surveillances to a licensee-controlled program, the Surveillance Frequency Control Program, and provides requirements for the new program in the Administrative Controls section of the TSs.

Date of issuance: February 24, 2012.

Effective date: As of the date of issuance and shall be implemented within 90 days.

Amendment No.: 280.

Renewed Facility Operating License No. DPR-49: The amendment revised the Renewed Facility Operating License and Technical Specifications.

Date of initial notice in Federal Register: May 17, 2011 (76 FR 28474).

The supplemental letters dated April 20, August 15, November 1, 2011 and February 3, 2012, provided additional information that clarified the application, did not expand the scope of the application as originally noticed, and did not change the staff's original proposed no significant hazards consideration determination as published in the Federal Register.

The Commission's related evaluation of the amendment is contained in a Safety Evaluation dated February 24, 2012.

No significant hazards consideration comments received: No.

NextEra Energy Seabrook, LLC, Docket No. 50-443, Seabrook Station, Unit 1, Rockingham County, New Hampshire

Date of amendment request: April 21, 2011.

Description of amendment request: The amendment revised operability requirements for the leakage detection systems, eliminated redundant Technical Specification (TS) requirements, and revised the TS actions to include conditions and required actions for inoperable leakage detection systems similar to those in NUREG 1431, “Standard Technical Specifications—Westinghouse Plants.” The amendment also incorporated the requirements of TSTF-513, Revision 3, “Revise [Pressurized Water Reactor] Operability Requirements and Actions for [Reactor Coolant System] Leakage Instrumentation.”

Date of issuance: February 23, 2012.

Effective date: As of its date of issuance and shall be implemented within 90 days.

Amendment No.: 129.

Facility Operating License No. NPF-86: The amendment revised the TS and the License.

Date of initial notice in Federal Register: August 9, 2011 (76 FR 48913).

The Commission's related evaluation of the amendment is contained in a Safety Evaluation dated February 23, 2012.

No significant hazards consideration comments received: No.

NextEra Energy Seabrook, LLC, Docket No. 50-443, Seabrook Station, Unit 1, Rockingham County, New Hampshire

Date of amendment request: November 17, 2011.

Description of amendment request: The proposed change revises Technical Specification 3.3.3.5, “Remote Shutdown System Table 3.3-9,” by removing the location information of transfer switches, control circuits, and instruments.

Date of issuance: February 28, 2012.

Effective date: As of its date of issuance and shall be implemented within 30 days.

Amendment No.: 130.

Facility Operating License No. NPF-86: The amendment revised the TS and the License.

Date of initial notice in Federal Register: December 27, 2011 (76 FR 80976).

The Commission's related evaluation of the amendment is contained in a Safety Evaluation dated February 28, 2012.

No significant hazards consideration comments received: No.

South Carolina Electric & Gas Company, South Carolina Public Service Authority, Docket No. 50-395, Virgil C. Summer Nuclear Station, Unit 1, Fairfield County, South Carolina

Date of application for amendment: May 2, 2011.

Brief description of amendment: This license amendment revised the Technical Specifications (TSs) 3.4.6.1, “RCS [Reactor Coolant System] Leakage Detection Systems,” to define a new time limit for restoring inoperable RCS leakage detection instrumentation to operable status, establish alternate methods of monitoring RCS leakage when monitors are inoperable, and to reflect the requested changes and more accurately reflect the contents of the facility design bases related to the operability of the RCS leakage detection instrumentation.

Date of issuance: February 22, 2012.

Effective date: As of the date of issuance and shall be implemented within 120 days.

Amendment No.: 186.

Renewed Facility Operating License No. NPF-12: Amendment revises the License and TSs.

Date of initial notice in Federal Register: July 12, 2011 (76 FR 40941).

The Commission's related evaluation of the amendment is contained in a Safety Evaluation dated February 22, 2012.

No significant hazards consideration comments received: No.

South Carolina Electric & Gas Company, Docket No. 50-395, Virgil C. Summer, Nuclear Station Unit 1, Jenkinsville, South Carolina

Date of application for amendment: April 18, 2011, and supplemented by letter dated September 26, 2011.

Brief description of amendment: This amendment revised the VCSNS Technical Specification Table 4.3-2 for the “Engineered Safety Feature Actuation System Instrumentation” to allow the surveillance frequency to be expanded from quarterly to every 18 months or refueling for the specific Westinghouse type AR relays used as Solid State Protection System slave relays or auxiliary relays.

Date of Issuance: March 6, 2012.

Effective date: As of the date of issuance and shall be implemented within 120 days.

Amendment No: 187.

Renewed Facility Operating License No. NPF-12: Amendment revised the Licenses and Technical Specifications.

Date of initial notice in Federal Register: August 16, 2011 (76 FR 50763).

The licensee's supplemental letter contained clarifying information, did not change the scope of the original license amendment request, did not change the NRC staff's initial proposed finding of no significant hazards consideration determination, and did not expand the scope of the original Federal Register notice.

The Commission's related evaluation of the amendment is contained in a Safety Evaluation dated March 6, 2012.

No significant hazards consideration comments received: No.

Southern Nuclear Operating Company, Inc., Docket Nos. 50-424 and 50-425, Vogtle Electric Generating Plant, Units 1 and 2, Burke County, Georgia

Date of application for amendment: March 3, 2011.

Brief description of amendment: The amendments revised the Technical Specifications (TS) 3.3.1 Reactor Trip System Instrumentation Table 3.3.1-1 and TS 3.3.2 Emergency System Feature Actuation System Table 3.3.2-1. Specifically, the change incorporates the Technical Specification Task Force Traveler TSTF-493-A, “Clarify Application of Setpoint Methodology for LSSS [limiting safety system setting] Function. The setpoint methodology incorporates revised (more conservative) calculations associated with the P-14, Steam Generator Water Level High-High instrument setpoint and associated allowable value. Also, the amendments contain administrative changes. Specifically, the amendment correct a typographical error on TS Table 3.3.1-1, page 9 of 9, and deletes an expired allowance provided by TS Table 3.3.2-1, Note J.

Date of issuance: February 27, 2012.

Effective date: As of the date of issuance and shall be implemented within 90 days from the date of issuance.

Amendment Nos.: Unit 1—165 and Unit 2—147.

Facility Operating License Nos. NPF-68 and NPF-81: Amendments revised the licenses and the technical specifications.

Date of initial notice in Federal Register: May 24, 2011 (re-noticed on July 12, 2011).

The supplements dated August 12, 2011, and December 9, 2011, provided additional information that clarified the application, did not expand the scope of the application as originally noticed, and did not change the staff's original proposed no significant hazards consideration determination.

The Commission's related evaluation of the amendments is contained in Safety Evaluation dated February 27, 2012.

No significant hazards consideration comments received: No.

Virginia Electric and Power Company, Docket Nos. 50-338 and 50-339, North Anna Power Station, Units 1 and 2, Louisa County, Virginia

Date of application for amendment: July 19, 2010, and supplemented by additional information dated September 9, 2010, January 26, 2011, and May 16, 2011, contained clarifying information only and did not change the initial no significant hazards determination or expand the scope of the initial application.

Brief description of amendment: The proposed amendments revise Technical Specification 5.6.5.b, “Core Operating Limits Report (COLR),” to include Appendix C, “Qualification of the Westinghouse WRB-2M CHF Correlation in the Dominion VIPRE-D Computer Code.” This would allow NAPS to use the VIPRE-D/WRB-2M and VIPRE-D/W-3 correlation pairs to perform licensing calculations with Westinghouse RFA-2 fuel in the cores.

Date of issuance: February 29, 2012.

Effective date: As of the date of issuance and shall be implemented within 60 days.

Amendment Nos.: Unit 1—266 and Unit 2—247.

Renewed Facility Operating License Nos. NPF-4 and NPF-7: Amendments changed the licenses and the technical specifications.

Date of initial notice in Federal Register: July 26, 2011 (76 FR 44618).

The Commission's related evaluation of the amendments is contained in a Safety Evaluation dated February 29, 2012.

No significant hazards consideration comments received: No.

Virginia Electric and Power Company, Docket Nos. 50-338 and 50-339, North Anna Power Station, Units 1 and 2, Louisa County, Virginia

Date of application for amendment: October 21, 2010, as supplemented by letter dated June 23, 2011, and August 22, 2011, contained clarifying information only and did not change the initial no significant hazards determination or expand the scope of the initial application.

Brief description of amendment: The proposed amendments revised Technical Specification 5.6.5.b, “Core Operating Limits Report (COLR),” to permit the use of the “Westinghouse Best Estimate—Large Break Loss-of-Coolant Accident (BE-LBLOCA) Evaluation Methodology using the Automated Statistical Treatment of Uncertainty Method (ASTRUM)” for the analysis of LBLOCA.

Date of issuance: February 29, 2012.

Effective date: As of the date of issuance and shall be implemented within 60 days.

Amendment Nos.: Unit 1—267 and Unit 2—248.

Renewed Facility Operating License Nos. NPF-4 and NPF-7: Amendments changed the licenses and the technical specifications.

Date of initial notice in Federal Register: November 30, 2010 (75 FR 74097).

The Commission's related evaluation of the amendments is contained in a Safety Evaluation dated February 29, 2012.

No significant hazards consideration comments received: No.

For the Nuclear Regulatory Commission.
Dated at Rockville, Maryland, this 8th day of March 2012.
Michele G. Evans,
Director, Division of Operating Reactor Licensing, Office of Nuclear Reactor Regulation.

[FR Doc. 2012-6261 Filed 3-19-12; 8:45 am]

BILLING CODE 7590-01-P